DEPARTMENT OF HOUSING AND URBAN DEVELOPMENT

[Docket No. FR-4558-N-08]

Mortgagee Review Board; Administrative Actions

AGENCY: Office of the Assistant Secretary for Housing-Federal Housing Commissioner, HUD.

ACTION: Notice.

SUMMARY: In compliance with section 202(c) of the National Housing Act, notice is given of the cause and description of administrative actions taken by HUD's Mortgagee Review Board against HUD-approved mortgagees.

FOR FURTHER INFORMATION CONTACT: Phillip A. Murray, Director, Office of Lender Activities and Program Compliance, Room B-133-3214 Plaza, 451 Seventh Street, SW, Washington, DC 20410, telephone: (202) 708-1515. (This is not a toll-free number.) A Telecommunications Device for Hearing and Speech-Impaired Individuals is available at 1-800-877-8339 (Federal Information Relay Service).

SUPPLEMENTARY INFORMATION: Section 202(c)(5) of the National Housing Act (added by section 142 of the Department of Housing and Urban Development Reform Act of 1989, Public Law 101-235, approved December 15, 1989), requires that HUD publish a description of and the cause for administrative actions against a HUD-approved mortgagee by the Department's Mortgagee Review Board. In compliance with the requirements of section 202(c)(5), notice is given of administrative actions that have been taken by the Mortgagee Review Board from April 1, 2001 through September 30, 2001.

Title I Lenders and Title II Mortgagees that failed to comply with HUD/FHA requirements for the submission of an audited annual financial statement and/or payment of the annual recertification fee.

Action: Withdrawal of HUD/FHA Title I lender approval and Title II mortgagee approval.

Cause: Failure to submit to the Department the required annual audited financial statement, an acceptable annual audited financial statement, and/or remit the required annual recertification fee.

333 Title I Lenders and Loan Correspondents Terminated Between April 1, 2001 and September 30, 2001
Name | City | State
ABC Lending Inc | Coral Springs | FL
Affordable Home Funding | Fairport | NY
AFS Investments Inc | Cathedral City | CA
Air Academy Federal Credit Union | Colorado Springs | CO
Albany BK + TR Company N A | Chicago | IL
All Service Mortgage Inc | Woodstock | GA
Allfirst Bank | Harrisburg | PA
Alpha Mortgage Corporation Inc | Villa Park | IL
Ambank Illinois NA | Robinson | IL
Ameri-Cap Mortgage Group Inc | Plantation | FL
American Charter Mortgage | Downey | CA
American City Mortgage Corp | Carson | CA
American Diversified Mortgage | Laguna Hills | CA
American Family Financial Services | Atlanta | GA
American Home Bancorp | Huntington Beach | CA
American Lending Inc | Honolulu | HI
American Mortgage Express Fin | San Diego | CA
American United Mortgage Corporation | Greenwood Village | CO
Americanet Mortgage Corporation | Laguna Hills | CA
Amwest Mortgage Inc | Tahoe City | CA
Anheuser Busch Employees Cu | St Louis | MO
Anson Financial Inc | Bedford | TX
Apollo Funding LLC | Broomfield | CO
Approval First Mortgage Corp | Lakeland | FL
Approved Federal Savings Bank | Virginia Beach | VA
Approved Mortgage Financing | Jacksonville Beach | FL
Arlington National Bank | Arlington | TX
Associated Bank North | Wausau | WI
Assurety Mortgage Group Inc | Decatur | GA
Atlantic Financial Mortgage | Pleasanton | CA
Atlas Capital Corporation | Irvine | CA
Augusta Federal Savings Bank | Augusta | ME
Aviles and Associates Inc | Tampa | FL
Axiom Financial Inc | Orem | UT
Banco Popular De P R | San Juan | PR
Bank One NA | Columbus | OH
Bankers First Mortgage Company | Owings Mills | MD
BankVista | Sartell | MN
Barrington Capital Corporation | Irvine | CA
Barrons Mortgage Corp | Brea | CA
Bayside Financial Corp | Mission Viejo | CA
Beach Cities Mortgage Corporation | Santa Ana | CA
Big Island Mortgage Corp | Kailua Kona | HI
BOCC Funding Corporation | Reston | VA
Border State Bank Greenbush | Greenbush | MN
Brazoswood National Bank | Richwood | TX
California Capital Associates | San Diego | CA
California Home Lenders Inc | Long Beach | CA
California Trusted Funding Group | Los Angeles | CA
Callaway Bank | Fulton | MO
Carolina Home Mortgage Group Inc | Columbia | SC
Central New England Mortgage | Worcester | MA
Centurion Mortgage Inc | Kennesaw | GA
Certified Home Loans of Florida Inc | Miami | FL
Chase Bank of Texas NA | Houston | TX
Chemical Bank Montcalm | Stanton | MI
Chemical Bank North | Grayling | MI
Chisago State Bank | Chisago City | MN
Cima Home Loans | South Pasadena | CA
Citizens Bank of—Las Cruces | Las Cruces | NM
Citizens First Bank | El Dorado | AR
Citizens Savings Bank F.S.B. | Normal | IL
City National Bank West Virgina | Charleston | WV
Citywide Financial Group Inc | Long Beach | CA
Citywide Loan Services | Chatsworth | CA
Cloquet Co-Op CR UN | Cloquet | MN
CM Nationwide Mortgage Corp | Santa Ana | CA
CMA Services Group | Long Beach | CA
CNB National Bank | Jacksonville | FL
Coastal Capital Corp | Jericho | NY
Cohoes Savings Bank | Cohoes | NY
Colonial Bank | Des Peres | MO
Columbia Equities LTD | Tarrytown | NY
Commerce Bank | Kansas City | MO
Community Bank-Dearborn | Dearborn | MI
Community Commerce Bank | Commerce | CA
Community Home Equities Corp | Hillside | NJ
Consolidated Consultants Inc | Las Vegas | NV
Consumer Electronic EMP FCU | Marion | IN
Coop CR NVL RVLT RDS | Fajarado | PR
Corona Hills Financial Inc | Boise | ID
Credicorp Inc | Chicago | IL
Crystal Mortgage Corp | Piscataway | NJ
D C Capital Group Inc | West Covina | CA
Dedham Institute for Savings | Denham | MA
Del Sol Mortgage | Carson | CA
DMI Inc | Boise | ID
Donald C Kinnsch | Lake Elsinore | CA
Downey Mutual Financial Inc | Downey | CA
DPS FInancial Services Inc | Laguna Hills | CA
Duluth Federal Employee CU | Duluth | MN
Eagle Mortgage Company | Omaha | NE
EFC Securitized Assets LC | Austin | TX
Elmira Savings Bank | Elmira | NY
Empire Funding Corp | Austin | TX
Enterprise Capital Corporation | Van Nuys | CA
Erwin Residential Group | Valley Village | CA
Euro Funding Corp | Downey | CA
Evergreen Pacific Mortgage Inc | Eugene | OR
Excel Mortgage Co | Brentwood | TN
Executive Mortgage Bankers LTD | Farmingdale | NY
Express Real Estate Finance Inc | Glendale | CA
F and M Bank | Hilbert | WI
F and M Bank Emporia | Emporia | VA
Farm Bureau Bank FSB | Sparks | NV
Farmers & Merchants State Bank | Waterloo | WI
FCMC Inc | Boulder | CO
Federal Mortgage Corporation | Waterford | MI
Ficus Financial Services Inc | Chicago | IL
Fidelity Funding Mortgage Corp | Richardson | TX
Fina Employees Federal C U | Dallas | TX
Financial Center West | Santa Ana | CA
First Allied Mortgage Inc | Walnut Creek | CA
First Atlantic Mtge LLC | Atlanta | GA
First Bank | Ketchikan | AK
First Bank of Conroe NA | Conroe | TX
First Community Bank | Pocahontas | AR
First Community Mortgage Company LLC | Henderson | NC
First Federal Savings Bank | Tuscaloosa | AL
First Financial Credit Union | West Covina | CA
First Funding Mortgage Corp | Charlotte | NC
First Home Mortgage Corp | Mount Prospect | IL
First Independence National Bank | Detroit | MI
First National Bank | El Dorado | AR
First National Bank | Ames | IA
First National Bank North | Sandstone | MN
First National Bank of Magnolia | Magnolia | AR
First National Bank Southeast | Reidsville | NC
First Priority Financial Inc | Dublin | CA
First Residential Mortgage | Birmingham | AL
First Savings and Loan Assn | Sea Isle | NJ
First Savings Bank | Perkasie | pa
First State Bank and Trust | Rainelle | WV
First Vantage Bank-Tri-Cities | Damascus | VA
Firstar Bank Milwaukee Na | Milwaukee | WI
Firstar Trust Company | Milwaukee | WI
Firstbank Oaklawn | Texarkana | TX
Fletcher Hills Financial | La Mesa | CA
Foremost Mortgage Company LLC | Houston | TX
Foremost Mortgage Company LP | Houston | TX
Fort Snelling Federal CR Union | MInneapolis | MN
Fortress Mortgage Inc | McLean | VA
Fortune Financial Mortgage Corp | Nashua | NH
Fox Chase Federal Savings Bank | Philadelphia | PA
Friendship Community Bank | Ocala | FL
Fund America Investors Corp II | Englewood | CO
G A Investment Inc | Corona | CA
Gateway Services Inc | San Diego | CA
Genesis Federal Credit Union | Springfield | VA
Gold Coast Funding Inc | Irvine | CA
Grant County Bank | Ulysses | KS
Greater Boston Mortgage Inc | Jamaica Plain | MA
Greenback Funding Inc | South El Monte | CA
Greenridge Enterprises | Long Beach | CA
GT Funding Corporation | Lincoln | RI
Hacienda Mortgage Shop Inc | Fremont | CA
Headland National Bank | Headland | AL
Heartland National Bank | Herrin | IL
Highland Community Bank | Chicago | IL
Home Federal Bank FSB | Hamilton | OH
Home Financial Mortgage | Plymouth | MI
Home Lenders Financial Services Inc | Greenville | SC
Home Loan Specialists Inc | Laguna Hills | CA
Home Mortgagee Corporation | Levittown | NY
Home Owner Financial Plus | Tarzana | CA
Home Trust Company | Houston | TX
Hometown National Bank | New Albany | IN
Horizon Financial Corp | Fairfield | NJ
Household Financial Services Inc | Prospect Heights | IL
Howe Mortgage Corporation | Phoenix | AZ
In Time Funding LLC | Somerset | CA
Independent Bank of Oxford | Oxford | AL
Interamerican Financial Services Inc | Miami | FL
Interlinq Financial Corporation | Lake Elsinore | CA
Interstar Mortgage Corporation | Dallas | TX
Interstate Banc Inc | Columbus | OH
Interstate Mtge Direct Funding | Upland | CA
Ixonia State Bank | Ixonia | WI
J and R Mortgage Inc | San Mateo | CA
J S T Development Corp | Woodland Hills | CA
Jefferson Heritage Bank | Ballwin | MO
Jefferson Mortgage and Investment Inc | Birmingham | AL
JM Mortgage Corporation | Garden Grove | CA
Johnson Bank | Racine | WI
Joseph A Broderick Realty Corp | Santa Ana | CA
Kevin White Co Inc | Culver City | CA
Kevron Investments Inc | Westlake Village | CA
Keybank National Association | Boise | ID
King Company LLC | Boise | ID
Ladd Mortgage Company | Canton | CT
Lam Estate Corporation | Santa Ana | CA
Lee and Jackson Finan Services | Camarillo | CA
Lincoln Community Bank | Milwaukee | WI
Linear Capital Inc | Long Beach | CA
Llewellyn Edison Svgs Bank SLA | W Orange | NJ
Loancity-Com | San Jose | CA
Loans for Less Inc | Artesia | CA
Loanstar America Inc | Corona | CA
Madison Home Equities Inc | Lake Success | NY
Mansfield Metro Credit Union | Mansfield | OH
Manufacturers and Traders TR Co | Buffalo | NY
Mar Vista Mortgage | Whittier | CA
MC Mortgage Inc | Laguna Beach | CA
McAloon Mortgage Company Inc | Hollywood | FL
McClian County National Bank | Purcell | OK
MCM Funding Corp | Claremont | CA
Melcor Financial Group Inc | Granada Hills | CA
Member Service Federal CU | Little Rock | AR
Mesa Verde Mortgage Inc | Laguna Hills | CA
Metro Mortgage Inc | Las Cruces | NM
Metropolitan Mortgage FSC | Forestville | MD
MFC First National Bank | Iron River | MI
MFC First National Bank | Marquette | MI
MFC First National Bank | Menominee | MI
Mid County Mortgage Bankers Corp | Norwalk | CT
Midland Bank | Lees Summit | MO
Midwest Funding Corporation | Downers Grove | IL
Millenium Mortgage Investors Corp | Miami | FL
Mortgage Capital Resource Company | Riverside | CA
Mortgage Consultant and Co Inc | Fairfield | NJ
Mortgage Lending LLC | Southaven | MS
Mortgage Network USA Inc | Burr Ridge | IL
Mortgage.Com Inc | Sunrise | FL
Murrieta Financial Inc | Lake Elsinore | CA
National Bank of Commerce | El Dorado | AR
National Bank of Alaska | Anchorage | AK
Nations First Financial LLC | Salt Lake City | UT
Neighborhood National Bank | San Diego | CA
Nicolas Mortgage and Financial Services | San Jose | CA
North County Real Estate Inc | Oceanside | CA
North Hawaii Community FCU | Honokaa | HI
Norwest Bank La Crosse NA | La Crosse | WI
Numax Mortgage Corporation | Germantown | MD
Old Kent Bank | Kalamazoo | MI
Old Kent Mortgage Company | Grand Rapids | MI
Omni Financial Services Inc | Atlanta | GA
P and A Financial Inc | Riverside | CA
Pace Financial Corp | Orlando | FL
Pacific Exchange Mortgage Lender | Woodland Hills | CA
Pacific Horizon Mortgage Corporation | Riverside | CA
Pacific One Bank NA | Kennewick | WA
Pacific Rim Funding Inc | Torrance | CA
Paladin Financial Inc | Austin | TX
Palma Corporation | Las Vegas | NV
Pan American Bank Fsb | San Mateo | CA
Pathfinder Mortgage Company | Phoenix | AZ
Peoples Bank-Point Pleasant | Point Pleasant | WV
Peoples State Bank | Wells | MN
Pillar Financial Corporation | Waterford | MI
Pinnacle Bank | Lexington | NE
Plaza Mortgage Company Inc | Metairie | LA
PMA Mortgage Inc | Long Beach | CA
Preferred Bank | Big Lake | MN
Premier Mortgage Services | Salt Lake City | UT
Primary Capital Inc | Irvine | CA
Primerchant Capital Corporation | Sherman Oaks | CA
Professional Invest and Fin Gr | Monterey Park | CA
Providence Financial Corporation Inc | Austin | TX
Quality Funding Group | San Diego | CA
Quality Mortgage Group | Oxford | CA
Queens County Savings Bank | Flushing | NY
R M G Funding Group Inc dba National Ban | Canoga Park | CA
Reaching Another Dimension Fin Ser Inc | Sunrise | FL
Real Estate Lenders Inc | Santa Clarita | CA
Real Estate Mortgage Acceptance | Los Angeles | CA
Referral Finance-Com Corporation | Austin | TX
Republic Bank | Ann Arbor | MI
Resource Bank | Virginia Beach | VA
Riverside Credit Union | Buffalo | NY
RMB Investment Inc | Marina Del Rey | CA
Ron Simpson and Associates Inc | Southfield | MI
Roslyn National Mortgage | Melville | NY
Royal Mortgage Bankers Inc | Great Neck | NY
Russell Country Federal Credit Union | Great Falls | MT
Ryans Express Equities Corp | Eas Meadow | NY
Sanmar Financial Group Inc | Long Beach | CA
Saromar Enterprises Inc | Glendale | CA
SCE Federal Credit Union | Irwindale | CA
Scripps Bank | La Jolla | CA
SFA Capital Ventures Inc | Northridge | CA
Signature Bank | Bad Axe | MI
Smith Haven Mortgage Corporation | Melville | NY
Sound Federal S+L Asso | Mamaroneck | NY
Southern New Hampshire Bank and Trust Co | Manchester | NH
Southwest Cedar Rapids Com FCU | Cedar Rapids | IA
Space Coast Credit Union | Melbourne | FL
St Edmonds Federal SB | Philadelphia | PA
Standard Federal Bank | Troy | MI
State Bank | West Fargo | ND
State Bank | Richmond | MN
State Bank | Lucan | MN
State Bank | Bricelyn | MN
State Bank La Crosse | Sparta | WI
Statewide Savings Bank SLA | Jersey City | NJ
Sterling Funding Corporation | Rancho Santa Margar | CA
Summit Bank | Arkadelphia | AR
Summit Financial Corporation | Irvine | CA
Summit Mortgage Corporation | Irvine | CA
Sunshine Funding Company | Winter Park | FL
Sunstar Mortgage Corporation | Rancho Cucamonga | CA
TCF National Bank | Minnepolis | MN
Texas Transportation Federal CU | San Antonio | TX
The Money Store Kentucky Inc | Louisville | KY
The Mortgage Bank Inc | Miami | FL
The Park Bank | Madison | WI
The Savings Bank | Utica | NY
Towne And Country Mortgage Corp | North Huntingdon | PA
Tri City Bank TR CO | Blountville | TN
Triple S Federal Credit Union | Sacramento | CA
Truong and Co Inc | Canoga | CA
Trust Company Bank NE Georgia | Madison | GA
Union Capital Funding Inc | Los Angeles | CA
United Companies Financial Cor | Baton Rouge | LA
United Minnesota Bank | New London | MN
United Missouri Bank NA | Kansas City | MO
Universal Bancorp | Laguna Hills | CA
Universal Lending Corp | Sacramento | CA
US Bank Trust National Assoc-Arizona | Phoenix | AZ
Valley Heights Funding Inc | Moreno Valley | CA
VIP Funding Ltd | Richmond Hill | NY
Wallick nd Volk Inc | Cheyenne | WY
Webtd Com | Woodland Hills | CA
West Chicago State Bank | West Chicago | IL
West Coast Guaranty Bank NA | Sarasota | FL
Western Home Lending Corporation | Los Angeles | CA
Western Home Mortgage Corp | Irvine | CA
Western Sierra National Bank | Cameron Park | CA
Western United Financial | Tustin | CA
Westland Savings Bank SA | Tomah | WI
Winterwood Mortgage Group | Greenwood | IN
WY HY Federal Credit Union | Cheyenne | WY
Wyoming Employees Federal C U | Cheyenne | WY
Zapata National Bank | Zapata | TX

683 Title 2 Mortgagees and Loan Correspondents Terminated Between April 1, 2001 and September 30, 2001
Name | City | State
Absolute Brokerage Services Ltd | White Plains | NY
Absolute Mortgage Company Inc | Tempe | AZ
Access Mortgage Corp | Oklahoma City | OK
Accord Mortgage Lenders Corp | Miami | FL
Accredited Mortgage Inc | Kissimmee | FL
ACF Partners | Pasadena | CA
Admiral Funding LLC | Birmingham | AL
Advanced Mortgage LLC | Henderson | NV
Advantage Home Loan Counselors Inc | La Mesa | CA
Advantage Mortgage Corporation | Naperville | IL
Advantage Mortgage Inc | Colorado Springs | CO
Advantage Plus Financial Inc | Santa Maria | CA
Affirmative Mortgage Loans Inc | Largo | FL
AFS Investments Inc | Cathedral City | CA
Alert Financial Services Inc | Parma Heights | OH
All American Mortgage Services Inc | Las Vegas | NV
All Cities Funding Inc | Downey | CA
Alliance Bank FSB | Somerset | KY
Alliance West Mortgage Corp | Scottsdale | AZ
Altimate Discount Mortgage | Willow Grove | PA
Altiva Financial Corporation | Atlanta | GA
AM Mortgage Brokers Inc | Boulder | CO
AMB Mortgage Corporation | Maitland | FL
Ameri—Cap Mortgage Group Inc | Plantation | FL
American Advantage Mortgage Inc | Baltimore | MD
American Alliance Financial Services | Indianapolis | IN
American Diversified Mortgage Corp | Laguna Hills | CA
American Family Financial Services Inc | Atlanta | GA
American Family Mortgage Co | Palos Heights | IL
American Funding Mortgage Corp | Miami | FL
American Home Mtg and Assoc | Weston | FL
American Lending Alliance Inc | Honolulu | HI
American Loans | Murray | UT
American Mortgage Capital Inc | Plantation | FL
American Mortgage Group LLC | Owensboro | KY
American Mortgage Solutions Inc | Columbus | OH
American National Bank-Vincennes | Vincennes | IN
American National Group Inc | Corona | CA
American Pioneer Life Ins | Orlando | FL
American Security Financial Corporation | Modesto | CA
American Trust Mortgage Inc | Chicago | IL
American United Mtg Corp | Greenwood Village | CO
Americapital Service Corp | Atlanta | GA
Ameristar Mortgage Corp | Atlanta | GA
Amresco Capital LP | Dallas | TX
Amwest Mortgage Inc | Tahoe City | CA
Anchor Bank | Myrtle Beach | SC
Andrews Charles Mortgage Co | Rockford | IL
Anneler Mortgage Services LLC | Colorado Springs | CO
Anson Financial Inc | Bedford | TX
Apex Financial Group Inc | Brandon | FL
Ascent Mortgage Inc | Denver | CO
Assured Mortgage Co LLC | St Paul | MN
Assured Mortgage Corp | Independence | OH
Athens First Bank and Trust Company | Athens | GA
Atlantic Financial Mortgage | Pleasanton | CA
Atlantic International Mtg Co | Tampa | FL
Atlantic Vanguard Mortgage | Altamonte Springs | FL
Atlas Capital Corporation | Irvine | CA
Avalon Financial Consultants LLC | Dunwoody | GA
Bank of Canton | Canton | GA
Bank of Canton | Canton | GA
Bank of Coweta | Newnan | GA
Bank of Hazlehurst | Hazlehurst | GA
Bank of Homewood | Homewood | IL
Bank of Illinois | Normal | IL
Bank of Lenox | Lenox | GA
Bank of Mount Vernon | Mount Vernon | KY
Bank of Prattville | Prattville | AL
Bank of Rogers | Rogers | AR
Bank of Stockdale | Bakersfield | CA
Bank of Tuscaloosa | Tuscaloosa | AL
Bank of Ventura | Ventura | CA
Bank One-NA | Park Ridge | IL
Bank Star One | Fulton | MO
Bankers First Mortgage Co | Owings Mills | MD
Bankers Residential Mortgage Corp | Richardson | TX
Bankline Mortgage Corp | Greenville | SC
Barbour County Bank | Philippi | WV
Barrington Bank and Trust Co NA | Barrington | IL
Baylor Finance and Mortgage Inc | Dallas | TX
Beach Cities Mortgage Corporation | Santa Ana | CA
Berean Federal Savings Bank | Philadelphia | PA
Big Island Mortgage Corp | Kailua-Kona | HI
Black Diamond Savings Bank | Norton | VA
Blue Ridge Bank and Trust Co | Kansas City | MO
Boise EMPL Credit Union | International Falls | MN
Boyer Mortgage Corporation | Kenner | LA
BRDB Inc | San Diego | CA
Bright Financial Corp | Walnut | CA
Buyers Edge Mortgage Corp | Alexandria | VA
CFM Mortgage Inc | College Park | GA
Cabarrus Bank North Carolina | Cornelius | NC
Cache Mortgage Corporation | Logan | UT
California Trusted Funding Group | Los Angeles | CA
Callaway Bank | Columbia | MO
Cambridge Savings Bank | Cambridge | OH
Capital Family Mortgage Co | Geneva | IL
Capital Mortgage Network Inc | Rochester | NY
Capitaland Funding Group LLC | Malta | NY
Capstone Lending Corp | Los Angeles | CA
Capstone Mortgage Corporation | Oak Park | MI
Cargill Bank CT | West Springfield | MA
Catskill Savings Bank | Catskill | NY
CB and T Bank | Warner Robbins | GA
Centennial Bankers Mortgage LLC | Windsor | CO
Centra Bank Inc | Morgantown | WV
Central Mortgage and Finance LLC | Beltsville | MD
Chase Bank of Texas NA | Houston | TX
Chester National Bank | Perryville | MO
Chicago Mortgage Corporation | Chicago | IL
Chinchiolo Realtors Inc | Stockton | CA
Chisago State Bank | Chisago City | MN
CHO Hung Bank of New York | New York City | NY
Cima Home Loans | South Pasadena | CA
Citimortgage Inc Ballwin | Ballwin | MO
Citizens and Merchants St Bank | Douglasville | GA
Citizens Bank and Trust West Georgia | Carrollton | GA
Citizens Credit Services Inc | Clearwater | FL
Citizens First Bank | El Dorado | AR
Citizens Mortgage Service Co | Fort Washington | PA
Citizens Southern Bank | Beckley | WV
Citizens State Bank Hamilton | Hamilton | MT
City Mortgage Corp | Clifton | NJ
Citywide Loan Services | Chatsworth | CA
Clark Financial | Rolling Meadows | IL
Classic Mortgage LLC | Maywood | NJ
CM Nationwide Mortgage Corp | Santa Ana | CA
Co-op Credit Union Montevideo | Montevideo | MN
Coastline Mortgage Inc | Carlsbad | CA
Cohoes Savings Bank | Cohoes | NY
Cohutta Banking Company | Chatsworth | GA
Columbus Bank and Trust Co | Columbus | GA
Columbus Capital Mortgage LTD | Reynoldsburg | OH
Comfort Mortgage Corporation | Roselle Park | NJ
Commercial Bank | Leadville | CO
Commercial Bank | Thomasville | GA
Commonwealth National MTG Corp | Livonia | MI
Community Bank | Preston | IA
Community Bank and Trust | Dothan | AL
Community Bank Tri-County | Waldorf | MD
Community Capital Bank | Brooklyn | NY
Community First Bank | Carrollton | GA
Community First Bank | Maysville | KY
Community First Mortgage | Sylva | NC
Community First National Bank | Rock Springs | WY
Community Mut Sav Bank So NY | White Plains | NY
Community Service Programs W Alabama Inc | Tuscaloosa | AL
Conduit Financial Services Inc | Chicago | IL
Consolidated Financial Inc | Miami | FL
Construction Funding Corporation | Schaumburg | IL
Continental Capital Funding Corp | Royal Palm Beach | FL
Contour Mortgage Corporation | Westbury | NY
Corstan Inc | Las Vegas | NV
Covenant Mortgage Corp | Arlington Heights | IL
Coventry Mortgage | Boise | ID
Covest Banc | McHenry | IL
Creative Mortgage Services Inc | Annapolis | MD
Creditland Mortgage-Com Inc | Woodbury | NJ
Creekside Mortgage Corp | Bridgeville | PA
Cypress Financial Mortgage Corp Inc | Davie | FL
Cypress Mortgage | Madera | CA
D and N Bank FSB | Hancock | MI
D C Capital Group Inc | Temple City | CA
D Sackett Inc | Santa Rosa | CA
DDM Mortgage Corp | Raleigh | NC
Dedham Institution for Savings | Dedham | MA
Deepak Mehra | Roswell | GA
Del Sol Mortgage | Carson | CA
Diamond Lenders Group Corp | Minneapolis | MN
Diversified Mortgage Capital Inc | Encino | CA
Donald Webber Mortgage Co. | Highland | IN
Draper Bank and Trust | Draper | UT
Drexel Mortgage Corp | Richmond Hill | NY
Drovers and Mechanics Bank | York | PA
Dupaco Community Credit Union | Dubuque | IA
DVI Mortgage Funding Inc | Jamison | PA
Dynamic Mortgage Co | Houston | TX
EAA Capital Company LLC | Silver Spring | MD
Eagle Mortgage Funding | Cincinnati | OH
Eagle Mortgage Incorporated | Sandy | UT
Eagle Trust Mortgage Corp | Miami | FL
Eastern Mortgage Associates Inc | Miami | FL
Edmond Bank and Trust | Edmond | OK
ELB Mortgage Brokers Inc | Northbrook | IL
Empire Bank | Springfield | MO
Empire Mortgage LLC | Bowling Green | KY
Emporia State Bank and Tr Co | Emporia | KS
Enhanced Financial Services Incorporated | Portland | OR
Enterprise Home Loans | Encino | CA
Equality State Bank | Cheyenne | WY
Equitable Mortgage Corporation | Columbus | OH
Equity First Funding Corp | Salt Lake City | UT
Erwin Residential Group | Valley Village | CA
Euro Funding Corporation | Cerritos | CA
Excel Funding Inc | Vancouver | WA
Excel Mortgage Company | Brentwood | TN
Executive Mortgage Bankers Ltd | Farmingdale | NY
Express Financial Centre LC | Salt Lake City | UT
Express Financial Corp | Boca Raton | FL
Express Funding LLC | San Diego | CA
Express Mortgage Inc | Chicago | IL
Express Real Estate Finance Inc | Glendale | CA
Family Federal Savings FA | Fitchburg | MA
Farm Bureau Bank FSB | Sparks | NV
Farmers and Traders State Bank | Jacksonville | IL
Farmers Merchants State Bank | Boise | ID
Federal Mortgage Corporation | Waterford | MI
Ficus Financial Services | Chicago | IL
Fidelity and Company of Georgia | Atlanta | GA
Fidelity Funding Mortgage Corp | Richardson | TX
Fidelity Mortgage and Funding | Memphis | TN
Fidelity Mortgage Services Corporation | Kingwood | TX
Financial Center West Inc | Santa Ana | CA
Financial Guarantee | Westfield | NJ
Financial Resource Center Mortgage Inc | Schaumburg | IL
Firefighters Funding Inc | Santa Ana | CA
First Advantage Mortgage Inc | Tucker | GA
First American Mortgage Corp | Indianapolis | IN
First Bank of Central Jersey | North Brunswick | NJ
First Bank of Marietta | Marietta | OH
First Bank of the Americas | Chicago | IL
First Capital Mortgage Corp | Beachwood | OH
First Choice Bank | Greeley | CO
First Choice Mortgage Company | Grand Blanc | MI
First City Bank and Trust Co | Hopkinsville | KY
First Class Mortgage Corporation | Yorba Linda | CA
First Coastal Bank | Virginia Beach | VA
First Coastal Mortgage Corp | Metairie | LA
First Commerce Bank Colorado | Colorado Springs | CO
First Commercial Bank | Birmingham | AL
First Commercial Bank Huntsville | Huntsville | AL
First Community Bank | Tifton | GA
First Community Bank Cherokee | Woodstock | GA
First Community Mortgage Company LLC | Henderson | NC
First Credit Mortgage LLC | Chandler | AZ
First Eagle Mortgage Corporation | Silver Spring | MD
First Federal Community Credit Union | Cedar Rapids | IA
First Federal Savings ALA | East Hartford | CT
First Fidelity Bank Na | Oklahoma City | OK
First Financial Mortgage Corp | Akron | OH
First Gaston Bank of North Carolina | Gastonia | NC
First Georgia Community Bank | Jackson | GA
First Integrity Mortgage Co | Closter | NJ
First Investment Company | Columbus | OH
First Investors Mortgage Corp | Madison | MS
First Kentucky Bank | Sturgis | KY
First Kentucky Federal Svgs AL | Central City | KY
First Liberty National Bank | Bethesda | MD
First Mountain Bank | Big Bear Lake | CA
First National Bank | Layton | UT
First National Bank | Magnolia | AR
First National Bank | El Dorado | AR
First National Bank and Tr Co | Carbondale | IL
First National Bank Blue Island | Blue Island | IL
First National Bank Dona Ana Co | Las Cruces | NM
First National Bank Fort Myers | Fort Myers | FL
First National Bank Joliet | Joliet | IL
First National Bank of Herminie | Herminie | PA
First National Bank of McCook | McCook | NE
First National Bank of Springdale | Springdale | AR
First National Bank Pryor Crk | Pryor | OK
First National Funding Corp | Rochelle Park | NJ
First Natl Bank of Boulder County | Boulder | CO
First Natl Bank of Shelby | Shelby | OH
First Rate Mortgage Corporation | Green Bay | WI
First Republic Bank | Rayville | LA
First Republic Mortgage Corp | Nashville | TN
First Residential Bancorp | Chicago | IL
First Savings Bank of Virginia | Springfield | VA
First Source Financial Grp | Oklahoma City | OK
First State Bank | Barboursville | WV
First State Bank Harrah | Harrah | OK
First State Bank and Trust Co | Valdosta | GA
First State Bank and Trust Co | Shawnee | OK
First State Bank of Pekin | Pekin | IL
First State Bank Rolla | Rolla | ND
First Texas Bank | Lampasas | TX
First United Bank and Trust | Oakland | MD
First United Mortgage Corp | Dyer | IN
First Western Bank Trust Co | Rogers | AR
Firstar Trust Co | Milwaukee | WI
Firstbank | Texarkana | TX
Firstier Bank | Northglenn | CO
Firstplus Financial Inc | Salt Lake City | UT
Floridian Mortgage Corp | Hollywood | FL
Foremost Mortgage Company LP | Houston | TX
Fortune Financial Mortgage Corp | Nashua | NH
Founders Bank of Arizona | Scottsdale | AZ
Founders Trust National Bank | Sioux Falls | SD
Four M Financial Inc | Orland Park | IL
Freedom Financial Services of Arkansas | Little Rock | AR
Fremont National Bank | Canon City | CO
Frontier Funding Corporation | Los Angeles | CA
Funding One Mortgage Corporation | Hayward | CA
Fundmor Inc | Annandale | VA
G L Byron and Company | Brighton | MI
Gainesville Bank and Trust | Gainesville | GA
Garcia Financial Service Inc | Santa Maria | CA
Gateway Home Mortgage | Kirkland | WA
Gateway Services Inc | San Diego | CA
Gerald J Stanfield Inc | Laguna Hills | CA
Glacier Bank of Eureka | Eureka | MT
Global Holdings V LLC | Federal Way | WA
Global Mortgage Funding LLC | New Orleans | LA
GMS Mortgage Inc | Baton Rouge | LA
Gotham Mortgage Corp | Boca Raton | FL
Great American FED Savings ALA | Pittsburgh | PA
Greater Colorado Mortgage Inc | Aurora | CO
Greenback Funding Inc | South EL Monte | CA
Greenfield Mortgage Company | Southfield | MI
Greenridge Enterprises | Long Beach | CA
Group Mortgage Inc | Miami | FL
GT Funding Corporation | Lincoln | RI
Guaranteed Equity Lenders Inc | Timonium | MD
Guardian Fidelity Mortgage Inc | Rock Hill | SC
Guardian Life Ins Co America | New York | NY
Gulfstream Financial Services | Grand Rapids | MI
Gulfstream Mortgage Corp | North Miami | FL
Gull Mortgage Inc | Lomita | CA
Hacienda Mortgage Shop Inc | Fremont | CA
Hamilton Financial Corporation | San Francisco | CA
Hansen Financial Corporation | Annapolis | MD
Harbor Financial Mortgage Corp | Houston | TX
Harmony Mortgage Inc | Santa Ana | CA
Harvard Home Mortgage Inc | Annapolis | MD
Helmick Mortgage Corporation | Delta | CO
Help U Sell of Staten Island Inc | Staten Island | NY
Heritage Bank | Tempe | AZ
Heritage Bank of Schaumburg | Schaumburg | IL
Heritage Cooperative Bank | Salem | MA
Heritage USA Mortgage LLC | Memphis | TN
Hi-Tech Financial Service Inc | Los Angeles | CA
HMN Mortgage Services Inc | Brooklyn Park | MN
HMS Capital Inc | Calabasas | CA
HNB Bank NA | Harlan | KY
Home Advantage Mortgage Corp | Littleton | MA
Home Federal Savings and Loan | Oklahoma City | OK
Home Federal Savings Bank | Hagerstown | MD
Home Lenders Financial Services Inc | Greenville | SC
Home Owner Financial Plus | Tarzana | CA
Home Owners Funding Corp AME | Dallas | TX
Home Quest Mortgage LC | Salt Lake | UT
Home Service Associates Inc | Campbell | CA
Homefn Mortgage Corporation | Atlanta | GA
Homefront Financial Services Inc | Santa Ana | CA
Homestead Real Estate Fin Inc | San Ramon | CA
Horizons Financial Services Inc | Citrus Heights | CA
Hughes Financial Group Inc | Sonora | CA
I Real Estate Corporation | Sacramento | CA
Illinois Mortgage Consultants Inc | Hinsdale | IL
In Time Funding LLC | Somerset | CA
Inez Deposit Bank | Inez | KY
Integrity Mortgage Solutions Inc | Lilburn | GA
Interamerican First Mortgage Corporation | Miami | FL
Interlinq Financial Corporation | Lake Elsinore | CA
Interstar Mortgage Corporation | Dallas | TX
Interstate Banc Inc | Columbus | OH
Interstate Mtg Direct Funding | Upland | CA
Iron River National Bank | Iron River | MI
Itasca State Bank | Grand Rapids | MN
Jamaica Savings Bank FSB | Lynbrook | NY
Javazon Financial Services Inc | Denver | CO
JD Hutton Inc | Salt Lake City | UT
Jefferson Heritage Bank | Ballwin | MO
Jefferson Mortgage Group LTD | Oakton | VA
Jeffmortgage Inc | Haddon Heights | NJ
Johnson and Assoc South States Mtg LLC | Birmingham | AL
Johnson and Associates Mtg Co | Birmingham | AL
Katmar Investments LLC | Denver | CO
Kellogg Company Employees Federal CU | Omaha | NE
Ladd Mortgage Company | Canton | CT
Lakeside Bank | Chicago | IL
Landmark Community Bank | Ramsey | MN
LaSalle Bank FSB | Chicago | IL
Leader Mortgage Loan Corp | Medford | OR
Leading Edge LLC | Alexandria | VA
Lendex Inc | Dallas | TX
Lending Resource Inc | New Rochelle | NY
Lendingstar Mortgage Inc | Calumet City | IL
Lexus Mortgage Inc | Dallas | TX
Liberty Financial Group Inc | Montclair | CA
Liberty Star Mortgage Inc | Houston | TX
Lincoln Community Bank | Milwaukee | WI
Linear Capital Inc | Long Beach | CA
Llanfare Mortgage Company LLC | Denver | CO
Llewellyn-Edison Savings Bank SLA | West Orange | NJ
Loans for Less Inc | Artesia | CA
Loanstar America Inc | Corona | CA
Long Island Commercial Bank | Islandia | NY
Longstreet Capital LLC | Raleigh | NC
Los Angeles Federal Credit Union | Glendale | CA
M and I Bank of Burlington | Burlington | WI
M and I Bank of Racine | Racine | WI
M and I Lake Country Bank | Hartland | WI
M and I Lakeview Bank | Sheboygan | WI
M and I Mid State Bank | Stevens Point | WI
Malone-Gordon Mortgage and Investments | Tuscaloosa | AL
Mar Vista Mortgage Inc | Whittier | CA
Marine Air Federal C U | Santa Ana | CA
Maritime Financial Services Inc | West Covina | CA
Market Building and Saving Co | Cincinnati | OH
Market Street Lending LTD | Columbus | OH
Mayflower Financial Services LLC | Colchester | CT
MBA Mortgage Corporation | Millersville | MD
MBS Financial Inc | Fairfax | VA
McIlroy Bank and Trust | Fayetteville | AR
MCM Funding Corp | Claremont | CA
Members Mortgage Corporation | Wyndmoor | PA
Members Mortgage Corporation | Garden City | NY
Mentor Financial LLC | Farmington | MI
Mercantile Bank FSB | Davenport | IA
Mercantile Bank Kentucky | Paducah | KY
Merchants and Planters Bank | Camden | AR
Merrit Mortgage Funding Inc | Columbus | OH
Mesa Verde Inc | Laguna Hills | CA
Metropolitan Home Mortgage Cor of NY | Jericho | NY
MFC First National Bank | Marquette | MI
MFC First National Bank | Menominee | MI
Michigan Heritage Bank | Farmington Hills | MI
Mid County Mortgage Bankers Corp | Norwalk | CT
Midland Mutual Life Ins Co | Columbus | OH
Millennium Bank NA | Reston | VA
Minden Bank and Trust Company | Minden | LA
Money Guard Financial Inc | CHicago | IL
Money Line Classic Corp | Whittier | CA
Money Source Inc | Prairieville | LA
Moneyline Financial Corp | Hialeah | FL
Monument Mortgage Corporation | Largo | MD
Mortgage Company Inc | Stillwater | MN
Mortgage Finance of-America Inc | Miami | FL
Mortgage Group Inc | Littleton | CO
Mortgage Investors of Orlando Corp | Orlando | FL
Mortgage Junction Inc | Apopka | FL
Mortgage Lending LLC | Southaven | MS
Mortgage Lending Professionals LLC | Fort Collins | CO
Mortgage Money Doctors | Philadelphia | PA
Mortgage Money Mart Inc | Edison | NJ
Mortgage Network USA Inc | Burr Ridge | IL
Mortgage Partners Inc | Springfield | MO
Mortgage Professionals | West Des Moines | IA
Mortgage Reserve Corporation | Fort Lauderdale | FL
Mortgage Resources Inc | Spokane | WA
Mortgage Servicing Company | Murray | UT
Mortgage.com Inc | Sunrise | FL
Motor Parts Federal Credit Union | Auburn Hills | MI
Mountain Pacific Mortgage | San Diego | CA
Mountainview Mortgage Corp | Salt Lake City | UT
Municipal Mortgage Corp | Miami | FL
Murrieta Financial Inc | Lake Elsinore | CA
Mutual Federal Savings Bank | Atlanta | GA
N K Equities | Ozone Park | NY
Naf Inc | Dallas | TX
National Bank | Hillsboro | IL
National Bank Commerce Trust Svgs Assn | Lincoln | NE
National Mortgage Co | Englewood | CO
Nationcorp Mortgage and Fin Services Inc | Baton Rouge | LA
Nationwide Residential Capital LLC | Santa Ana | CA
NC Funding Inc | Irvine | CA
New Community Fed Credit Union | Newark | NJ
New Farmers National Bank | Glasgow | KY
New Milford Bank and Trust | New Milford | CT
Neway Financial Services | No Plainfield | NJ
Newscope Financial Partners LLC | Irvine | CA
Northeastern Mortgage Ser Inc | Tyngsboro | MA
Northfield Federal Savings Bank | Baltimore | MD
Northfield Savings Bank FSB | Staten Island | NY
Northgate Funding Co | Albany | NY
Northland Mortgage Company | Anchorage | AK
Northland Security Bank | Ramsey | MN
Northwest Fidelity Mortgage Corp | Morton Grove | IL
Northwest Mortgage Professionals Inc | Silverdale | WA
Norwest Mortgage Mass Inc | Danvers | MA
Numax Mortgage Corporation | Germantown | MD
NW LLC | University Place | WA
Oceanmark Bank FSB-FDIC | North Miami Beach | FL
Ocwen Financial Services Inc | West Palm Beach | CA
Oklahoma Central Credit Union | Tulsa | OK
Old Castle Mortgage Inc | Alameda | CA
Old Florida Mortgage Inc | Boca Raton | FL
Old Kent Bank | Grand Rapids | MI
Olympic Mortgage Group Inc | McLean | VA
Omega Mortgage and Fin Corp | Saint Paul | MN
Omni Financial Services LLC | Birmingham | AL
One Valley Bank—Shenandoah | Lexington | VA
One Valley Bank Oak Hill Inc | Oak Hill | WV
Onloan.com Inc | Fort Lauderdale | FL
Origin Mortgage LLC | Austin | TX
Owensboro National Bank | Owensboro | KY
Pacific Capital Mortgage | Scottsdale | AZ
Pacific Exchange Mtg Lender | Woodland Hills | CA
Pacific Mortgage Inc | Ft Collins | CO
Pacific Rim Funding Inc | Torrance | CA
Pacific Southwest Bank FSB | Dallas | TX
Pacific State Bank | Stockton | CA
Palma Corporation | Las Vegas | NV
Pan American Bank FSB | San Mateo | CA
Park Bank | Madison | WI
Parkway Mortgage Inc | Kenilworth | NJ
Pathfinder Mortgage Company | Phoenix | AZ
PCLoans.com Inc | Millersville | MD
Peach State Funding Inc | Atlanta | GA
Peachtree National Bank | Peachtree City | GA
Peak National Bank | Evergreen | CO
Peoples Bank | Taos | NM
Peoples Bank Murray | Murray | KY
Peoples Benefit Life Insurance Co | Louisville | KY
Peoples Commercial Bank | Winchester | KY
Peoples State Bank | Fairmount | ND
Pinnacle Bank | Lexington | NE
Pinnacle Residential Funding | Sacramento | CA
Pinnacle Residential Services | Westlake | OH
Pioneer National Bank | Yakima | WA
Placer Savings and Loan Assn | Auburn | CA
Plains National Bank W TX | Lubbock | TX
Platinum Mortgage of Louisiana | Baton Rouge | LA
Plaza Mortgage Services LLC | Kansas City | MO
PMCC Mortgage Corp | Roslyn Heights | NY
Portland Federal Employees Credit Union | Portland | OR
Potomac Mortgage Corporation | Clinton | MD
Preferred Bank | Big Lake | MN
Preferred Funding Inc | Kirkland | WA
Preferred Mortgage Associates | Downers Grove | IL
Premier Capital Mortgage LLC | Lawrence | KS
Premier First Funding Group Inc | Hollywood | FL
Premier Lending Corporation | Marietta | GA
Premier Mortgage Corporation | Draper | UT
Premier Mortgage Corporation | Omaha | NE
Premier National Bank | Fishkill | NY
Prime Funding Corporation | North Miami Beach | FL
Prime Lending Inc | Sturgeon Bay | WI
Prime Mortgage Financial Inc | Wellesley | MA
Prime Point Mortgage Inc | Bellevue | WA
PrimeSource Financial LLC | Hollywood | FL
Professional Investment and FINL Group | Monterey Park | CA
Progressive Bank NA | Lexington | KY
Progressive Financial Inc | Southfield | MI
Providence Financial Corp Inc | Austin | TX
Provident Bank FSB | Saint Joseph | MO
Prudential Home Mortgage Co | Lagrange | IL
Pulaski Bank and Trust Company | Little Rock | AR
Quality Financing Corp | Chicago | IL
Quality Lending Services Inc | San Pablo | CA
Quality Mortgage Services | Hazelwood | MO
Quantum Mortgage Funding Inc | Cincinnati | OH
R F Mortgage Inc | San Diego | CA
Ravenna Savings and Loan Co | Ravenna | OH
Real Estate Lenders Inc | Santa Clarita | CA
Realco Funding Group LC | Annandale | VA
Red Valley Mortgage Inc | Mesa | AZ
Referral Finance.com Corporation | Austin | TX
Reliable Mortgage and Trust Inc | Hollywood | FL
Renaissance Mortgage | Southfield | MI
Republic Trust and Mortgage Inc | Largo | FL
Resource Bancshares Mortgage Group Inc | Columbia | SC
Resource One Federal Credit Union | Dallas | TX
Richland Group | Los Angeles | CA
Richmond Savings Bank SSB | Charlotte | NC
Ritz Financial Inc | Bensalem | PA
RMB Investment Inc | Marina Del Rey | CA
Rocky Mountain Mortgage LTD | Albuquerque | NM
Rose Hill State Bank | Rose Hill | KS
Royal Credit Industries Inc | Glendale | CA
Royal Mortgage Bankers Inc | Great Neck | NY
Ryans Express Equities Corp | East Meadow | NY
Saint Clair Mortgage Corp | Royal Oak | MI
San Jose Mortgage and Investments Corp | Jacksonville | FL
Sanmar Financial Group Inc | Long Beach | CA
Santiam Mortgage Corporation | Lebanon | OR
Saromar Enterprises Inc | Glendale | CA
SAS Financial Corporation | Santa Barbara | CA
SCE Federal Credit Union | Irwindale | CA
Schmitt Mortgage Co | Colorado Springs | CO
Sea Island Bank | Statesboro | GA
Seagull Financial Corp | Hialeah | FL
Security Bank | Madison | SD
Security Bank and Trust Co | Albany | GA
Security Bank Bibb County | Warner Robins | GA
Security Bank Southwest Missouri | Cassville | MO
Security First Bank | Cozad | NE
Security Mortgage of Louisiana Inc | Baton Rouge | LA
Select Mortgage Group Inc | Hialeah | FL
Select Mortgage LLC | East Meadow | NY
SFA Capital Ventures Inc | Northridge | CA
Shamrock Financial Corporation | East Providence | RI
Sheila Enterprises Inc | Monmoth Junction | NJ
Sierra Capital Funding LLC | Irvine | CA
Sierra Financial Inc | Rancho Cucamonga | CA
Smith-Haven Mortgage Corporation | Melville | NY
SNL Mortgage Inc | North Miami Beach | FL
SOBE Mortgage Corp | Delray Beach | FL
Sound Federal Savings & Loan | Mamaroneck | NY
South Atlantic Mortgage Services Inc | Orlando | FL
Southeast Mortgage Bankers | South Gate | CA
Southern Commerical Bank | St Louis | MO
Southern Security Bank Hollywood | Hollywood | FL
Southern United Mortgage | Oneonta | AL
Southland Lending Services | Huntington Beach | CA
Southland Mortgage Investment Group Inc | Gainesville | FL
Sovereign Mortgage Corporation | Sarasota | FL
Spectrum Mortgage Company LLC | Mokena | IL
Spectrum Mortgage Group Inc | Wayne | MI
Standard Mortgage Corporation | Rio Piedras | PR
Starbanc Corporation | San Diego | CA
State Bank and Trust of Seguin | Seguin | TX
State Bank Lucan | Lucan | MN
State Department Federal Credit Union | Alexandria | VA
State Department Federal Credit Union | Alexandria | VA
State National Bank Caddo Mill | Caddo Mills | TX
Stellar Mortgage LLC | Houston | TX
Sterling Bank | Montgomery | AL
Sterling Group LLC | Ridgefield | CT
Sterling Home Funding | Conyers | GA
Sterling International Corp | Chicago | IL
Sterling National Mortgage Corporation | Richmond | VA
Sturgis Federal Savings Bank | Sturgis | MI
Summit Financial Corp | Irvine | CA
Summit Mortgage Corp | Irvine | CA
Sun Security Bank of America | St Peters | MO
Sunpointe Mortgage Corporation | Hollywood | FL
Sunshine Mortgage Services | Jacksonville | FL
Suntrust Bank Chattanooga NA | Chattanooga | TN
Suntrust Bank South Florida NA | Sunrise | FL
Suntrust Bank Tampa Bay | Tampa | FL
Superior Mortgage Co Inc | Mesa | AZ
Telebank | Arlington | VA
Terre Haute First National Bank | Terre Haute | IN
The Mortgage Bank Inc | Miami | FL
The Quincy State Bank | Quincy | FL
The Loan Company Inc | Salt Lake City | UT
Thomaston Federal Savings Bank | Thomaston | GA
TLC Home Finance Inc Placentia | Placentia
Town and Country Mortgage LP | Woodland Hills | CA
Towne and Country Mortgage LLC | Midvale | UT
Traditional Mortgage Corp | Richmond Hill | NY
Trans Financial Group Inc | Cerritosa | CA
TSM Mortgage Servicing Corp | Colorado Springs | CO
Tuscaloosa Teachers Credit Union | Tuscaloosa | AL
U S Mortgage and Acceptance Corp | Tustin | CA
UCB Financial Corporation | Downey | CA
Union Bank Company | Columbus Grove | OH
Union Discount Mortgage Inc | Redondo Beach | CA
Union Funding USA Inc | Lake Forest | CA
Union Mortgage Services Inc | Troy | MI
Union National Bank of Westminster | Westminster | MD
Union Street Mortgage Inc | Modesto | CA
United Banc Financial Services Inc | Canton | OH
United Companies Funding Inc | Baton Rouge | LA
United Companies Lending Corp | Baton Rouge | LA
United Fidelity Bank FSB | Evansville | IN
United Home Savings LLC | Westminster | MD
United National Bank | Charleston | WV
Universal Lending Corp | Sacramento | CA
US Financial Ltd | Chicago | IL
USA Mortgage Corporation | Hudson | OH
V Loan You Services Corp | Saint Paul | MN
Valentine Mortgage Corp | Diamond Bar | CA
Valley of Rogue Bank | Phoenix | OR
Value Financial Inc | Scotts Valley | CA
Vanguard Bank and Trust Company | Fort Walton Beach | FL
Vanguard Lending Group Inc | Atascadero | CA
Vantage Mortgage Service Center Inc | Sanford | FL
Venture West Funding Inc | El Segundo | CA
Veterans Choice Mortgage Inc | Martinez | GA
VHb Mortgage Company LLC | Fredericksburg | VA
Vista Mortgage Corp | Carmichael | CA
Walhalla State Bank | Walhalla | ND
Wall Street Capital Funding Inc | Conyers | GA
Wall Street Mortgage Corporation | Dallas | TX
Wall Street Residential Loans | Downey | CA
WEBTD.com | Woodlands Hills | CA
Welcome Home Mortgage Inc | Colorado Springs | CO
West Coast Guaranty Bank NA | Sarasota | FL
Western Home Lending Corporation | Montebello | CA
Western Mortgage Express | El Centro | CA
Western Nebraska National Bank | North Platte | NE
Whitley Mortgage Associates | Monroe | NC
Wood Products Credit Union | Springfield | OR
Woodforest National Bank | Conroe | TX
World Residential Mortgage Corp | Deerfield Beach | FL
World Wide Mortgage Corporation | Skokie | IL
Yosemite Brokerage Inc | Bridge City | TX
Zaring Financial Services LLC | Cincinnati | OH

Dated: February 19, 2002.
John C. Weicher,
Assistant Secretary for Housing-Federal Housing Commissioner, Chairman, Mortgagee Review Board.

[FR Doc. 02-5001 Filed 3-1-02; 8:45 am]

BILLING CODE 4210-27-P